DEPARTMENT OF ENERGY

Federal Energy Regulatory Commission

Combined Notice of Filings #1

Take notice that the Commission received the following electric corporate filings:

Docket Numbers: EC14-41-000.

Applicants: NorthWestern Corporation, PPL Montana, LLC.

Description: Supplement to January 10, 2014 Joint Application for Order Authorizing Acquisition and Disposition of Jurisdictional Facilities of NorthWestern Corporation and PPL Montana, LLC.

Filed Date: 4/9/14.

Accession Number: 20140409-5249.

Comments Due: 5 p.m. ET 4/21/14.

Take notice that the Commission received the following electric rate filings:

Docket Numbers: ER11-1858-003; ER11-1859-002.

Applicants: NorthWestern Corporation, Montana Generation, LLC.

Description: Supplement to January 10, 2014 Notice of Change in Status of NorthWestern Corporation and Montana Generation, LLC.

Filed Date: 4/9/14.

Accession Number: 20140409-5241.

Comments Due: 5 p.m. ET 4/30/14.

Docket Numbers: ER14-1355-001.

Applicants: Lakeswind Power Partners, LLC.

Description: Amendment to Market-Based Rate Tariff to be effective 2/25/2014.

Filed Date: 4/10/14.

Accession Number: 20140410-5058.

Comments Due: 5 p.m. ET 5/1/14.

Docket Numbers: ER14-1425-001.

Applicants: Cheyenne Light, Fuel and Power Company.

Description: Supplement to Open Access Transmission Tariff Rate Change Filing to be effective 5/3/2014.

Filed Date: 4/10/14.

Accession Number: 20140410-5119.

Comments Due: 5 p.m. ET 4/17/14.

Docket Numbers: ER14-1665-000.

Applicants: Natural Gas Exchange Inc.

Description: Resubmission of document for April 7, 2014 Natural Gas Exchange Inc. tariff filing.

Filed Date: 4/9/14.

Accession Number: 20140409-5250.

Comments Due: 5 p.m. ET 4/30/14.

Docket Numbers: ER14-1694-000.

Applicants: Appalachian Power Company.

Description: System Integration Agreement to be effective 6/1/2014.

Filed Date: 4/9/14.

Accession Number: 20140409-5203.

Comments Due: 5 p.m. ET 4/30/14.

Docket Numbers: ER14-1695-000.

Applicants: Indiana Michigan Power Company.

Description: System Integration Agreement Concurrence to be effective 6/1/2014.

Filed Date: 4/9/14.

Accession Number: 20140409-5211.

Comments Due: 5 p.m. ET 4/30/14.

Docket Numbers: ER14-1696-000.

Applicants: Kentucky Power Company.

Description: System Integration Agreement Concurrence to be effective 6/1/2014.

Filed Date: 4/9/14.

Accession Number: 20140409-5213.

Comments Due: 5 p.m. ET 4/30/14.

Docket Numbers: ER14-1697-000.

Applicants: Public Service Company of Oklahoma.

Description: System Integration Agreement Concurrence to be effective 6/1/2014.

Filed Date: 4/9/14.

Accession Number: 20140409-5219.

Comments Due: 5 p.m. ET 4/30/14.

Docket Numbers: ER14-1698-000.

Applicants: Southwestern Electric Power Company.

Description: System Integration Agreement Concurrence to be effective 6/1/2014.

Filed Date: 4/9/14.

Accession Number: 20140409-5220.

Comments Due: 5 p.m. ET 4/30/14.

Docket Numbers: ER14-1699-000.

Applicants: Milford Power, LLC.

Description: Supplement 2 to Notice of Succession and Non-Material Change in Status to be effective 1/28/2014.

Filed Date: 4/10/14.

Accession Number: 20140410-5063.

Comments Due: 5 p.m. ET 5/1/14.

Docket Numbers: ER14-1700-000.

Applicants: Southwest Power Pool, Inc.

Description: EIS Market Service Agreement Cancellations to be effective 3/1/2014.

Filed Date: 4/10/14.

Accession Number: 20140410-5065.

Comments Due: 5 p.m. ET 5/1/14.

Docket Numbers: ER14-1701-000.

Applicants: Southwest Power Pool, Inc.

Description: Notices of Cancellation of EIS Market Service Agreements of Southwest Power Pool, Inc.

Filed Date: 4/10/14.

Accession Number: 20140410-5071.

Comments Due: 5 p.m. ET 5/1/14.

Take notice that the Commission received the following qualifying facility filings:

Docket Numbers: QF14-453-000.

Applicants: Sofidel America corp.

Description: Form 556 of Sofidel America corp.

Filed Date: 4/10/14.

Accession Number: 20140410-5041.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2014.
Nathaniel J. Davis, Sr.,
Deputy Secretary.

[FR Doc. 2014-08865 Filed 4-17-14; 8:45 am]

BILLING CODE 6717-01-P